DEPARTMENT OF DEFENSE

Department of the Navy

Notice of Availability of Government-Owned Invention; Available for Licensing

AGENCY: Department of the Navy, DOD.

ACTION: Notice.

SUMMARY: The Department of the Navy hereby gives notice of the general availability of exclusive or partially exclusive licenses under the following pending patent. Any license granted shall comply with 35 U.S.C. 209 and 37 CFR part 404. Applications will be evaluated utilizing the following criteria: (1) Ability to manufacture and market the technology; (2) manufacturing and marketing ability; (3) time required to bring technology to market and production rate; (4) royalties; (5) technical capabilities; and (6) small business status.

Patent application Serial Number 09/747,521 entitled “Methods for Protection Against Lethal Infection with Bacillus Anthracis” filed 21 December 2000. The present invention relates to the use selected genes from the pathogen Bacillus anthracis for constructing a plasmid or DNA-based vaccine which can be used to immunize susceptible hosts against the pathogenic effects of B. anthracis infection. Moreover, the invention describes the protective effects of immunization with DNA constructs encoding the Protective Antigen (PA) or the Lethal Factor (LF) and mutants thereof. Most importantly, the invention describes the complete protection of hosts following co-immunization of a host with PA and LF demonstrating a surprising synergistic effect. Lastly, the invention teaches the use of the synergistic effect of PA and/or LF genes for use as a general adjuvant for co-immunization with other DNA or protein based vaccines.

DATES: Applications for an exclusive or partially exclusive license may be submitted at any time from the date of this notice.

ADDRESSES: The Office of Technology Transfer, Naval Medical Research Center, 503 Robert Grant Ave., Silver Spring, MD 20910-7500, telephone (301) 319-7428.

FOR FURTHER INFORMATION CONTACT: Dr. Charles Schlagel, Director, Office of Technology Transfer, Naval Medical Research Center, 503 Robert Grant Ave., Silver Spring, MD 20910-7500, telephone (301) 319-7428 or E-Mail at schlagelc@nmrc.navy.mil.

Dated: June 11, 2001.
J.L. Roth,
Lieutenant Commander, Judge Advocate General's Corps, U.S. Navy, Federal Register Liaison Officer.

[FR Doc. 01-15448 Filed 6-19-01; 8:45 am]

BILLING CODE 3810-FF-P